AGENCY FOR INTERNATIONAL DEVELOPMENT

Notice of Meeting

Pursuant to the Federal Advisory Committee Act, notice is hereby given of a meeting of the Advisory Committee on Voluntary Foreign Aid (ACVFA).

Date: May 10, 2000 (8:45 a.m. to 5 p.m.).

Location: U.S. Department of State, Loy Henderson Auditorium, 23rd Street Entrance, Washington, DC.

This full-day, interactive meeting will bring together members of the public and private sectors to discuss the environment for gender equality—what has been achieved and what challenges remain.

The meeting is being held in cooperation with The President's Interagency Council on Women. Several leading non-governmental organizations involved in women's issues are co-sponsoring the event, including the Association for Women in Development (AWID), Center for Development and Population Activities (CEDPA), International Center for Research on Women (ICRW), U.S. Women Connect, Women's Edge, InterAction Commission on the Advancement of Women, and the Women's Foreign Policy Group.

The meeting is free and open to the public. However, Notification by May 8, 2000 Through the Advisory Committee Headquarters is Required. Persons wishing to attend the meeting must fax their name, social security number, organization and phone number to Lisa J. Harrison on (703) 741-0567.

Dated: April 13, 2000.
Noreen O'Meara,
Executive Director, Advisory Committee on Voluntary Foreign Aid (ACVFA).

[FR Doc. 00-10479 Filed 4-26-00; 8:45 am]

BILLING CODE 6116-01-M